DEPARTMENT OF HOMELAND SECURITY

[Docket No. DHS-2008-0038]

Designation of the National Infrastructure Protection Plan Critical Manufacturing Sector

AGENCY: National Protection and Programs Directorate, DHS.

ACTION: Notice and request for comments.

SUMMARY: This notice informs the public that the Department of Homeland Security (DHS) has designated Critical Manufacturing as an additional critical infrastructure sector under the National Infrastructure Protection Plan (NIPP) and, as part of a comprehensive national review process, solicits public comment on the actions necessary to incorporate this sector into the NIPP framework.

DATES: Written comments must be submitted on or before May 10, 2008.

ADDRESSES: Comments must be identified by docket number DHS-2008-0038 and may be submitted by one of the following methods:

• Federal Rulemaking Portal: http://www.regulations.gov. Follow the instructions for submitting comments.

• E-mail: Nipp@dhs.gov. Include the docket number in the subject line of the message.

• Facsimile: 703-235-3057.

• Mail: R. James Caverly, NPPD/IP/POD; Mail Stop 8530, Department of Homeland Security, 245 Murray Lane, SW., Washington, DC 20528-8530.

FOR FURTHER INFORMATION CONTACT: R. James Caverly, Director, Partnership and Outreach Division, Office of Infrastructure Protection, National Protection and Programs Directorate, Department of Homeland Security, Washington, DC 20528, 703-235-3634 or NIPP@dhs.gov.

SUPPLEMENTARY INFORMATION:

I. Public Participation

DHS invites interested persons to participate in the issues presented in this notice by submitting written data, views, or arguments. Comments that will provide the most assistance to DHS in developing these procedures will reference specific aspects of this notice, explain the reason for any recommended changes necessary to implement the Critical Manufacturing Sector, and include data, information, or authority that supports such recommended change. DHS invites comment on the proposed amendments to the National Infrastructure Protection Plan (NIPP), the organization of the Government Coordinating Council (GCC), and designation of a Federal agency Sector Specific Agency (SSA).

Instructions: All submissions received must include the agency name and docket number for this action. All comments received will be posted without change to http:// www.regulations.gov, including any personal information provided. You may submit your comments and material by one of the methods specified in the ADDRESSES section. Please submit your comments and material by only one means to avoid the adjudication of duplicate submissions. If you submit comments by mail, your submission should be an unbound document and no larger than 8.5 by 11 inches to enable copying and electronic document management. If you want DHS to acknowledge receipt of comments by mail, include with your comments a self-addressed, stamped postcard that includes the docket number for this action. We will date your postcard and return it to you via regular mail.

Docket: Background documents and comments received can be viewed at http://www.regulations.gov.

II. Background

Homeland Security Presidential Directive 7 (HSPD-7) identifies 17 sectors of critical infrastructure and key resources vital to the United States. The President designated these sectors as critical infrastructure and key resources based on the potential national impact of a terrorist attack on infrastructure functions, resources, and systems within these sectors. HSPD-7 identifies characteristics of Critical Infrastructure and Key Resources (CIKR) and establishes the policy to identify CIKR and protect them against terrorist acts that could:

1. Cause catastrophic health effects or mass casualties,

2. Impair Federal departments and agencies' abilities to perform essential missions or to ensure the public's health and safety,

3. Undermine State and local government capacities to maintain order and to deliver minimum essential public services,

4. Damage the private sectors' capability to ensure the orderly functioning of the economy and delivery of essential services,

5. Have a negative effect on the economy through the cascading disruption of other critical infrastructure and key resources, or

6. Undermine the public's morale and confidence in our national economic and political institutions.

DHS announced the establishment of the Critical Infrastructure Partnership Advisory Council (CIPAC) by notice published in the Federal Register on March 24, 2006. See 71 FR 14930. CIPAC facilitates interaction between government officials and representatives of the community of owners and/or operators for each of the CIKR sectors defined by HSPD-7 and identified in the NIPP. The NIPP is the National policy framework that provides a coordinated approach to CIKR protection roles and responsibilities for federal, state, local, tribal, and private sector security partners. The NIPP sets national priorities, goals, and requirements for effective distribution of funding and resources that will help ensure that our government, economy, and public services continue in the event of a terrorist attack or other disaster.

III. Creation of the Critical Manufacturing Sector

In addition to outlining CIKR characteristics and identifying 17 CIKR sectors, HSPD-7 also directs DHS to “evaluate the need for and coordinate the coverage of additional critical infrastructure and key resources categories over time, as appropriate.” This authority is further provided in section 201(d)(5) of the Homeland Security Act [6 U.S.C 121(d)(5)], which directs the Secretary of Homeland Security “to develop a comprehensive national plan for securing the key resources and critical infrastructure of the United States.” Consistent with this authority and based on an evaluation of CIKR protection summarized below, on March 3, 2008 DHS designated Critical Manufacturing as an additional sector under the NIPP.

Today's manufacturing environment is integrated into complex, interdependent supply chains. Failure in any part of a supply chain can ripple through manufacturing systems, causing cascading economic impacts. Supply chains have been optimized for productivity and efficiency as opposed to redundancy, making them sensitive to disruption. Manufacturers rely heavily on information and communications systems, the interruption of which could degrade, damage, or shut down supply chain operations. Also, domestic manufacturers are increasingly reliant upon foreign sources of supply, energy, and on transcontinental transportation systems.

The composition of the Critical Manufacturing Sector attempts to address the sensitivity of individual manufacturing systems and the role of the manufacturing industry in cross-sector operations. The Critical Manufacturing Sector is comprised of the manufacturing industry systems and operations whose failure or disruption could cause one or more of the following:

1. A large number of fatalities,

2. Significant first year national economic impact,

3. Mass evacuations with prolonged absences of six or more months, or

4. A loss of governance or mission execution that disrupts multiple regions or critical infrastructure sectors for more than one week resulting in loss of necessary services to the public.

Because of the importance of the manufacturing industry in sustaining cross-sector interdependencies, the Critical Manufacturing Sector also includes systems and operations that, if attacked or disrupted, would cause major interruptions to the essential functions of one or more other CIKR sectors and result in national-level impacts.

Using all of the criteria above, DHS conducted a study of the manufacturing sector and identified four broad manufacturing industries which together meet the DHS definition of a CIKR sector and which will serve as the core of the new Critical Manufacturing sector. These industries, in part or in whole, are not adequately represented by the 17 existing CIKR sectors. The following industry systems now form the Critical Manufacturing Sector:

Manufacturing industry | Element
1. Primary Metal Manufacturing | • Iron and Steel Mills and Ferro Alloy Manufacturing.
| • Alumina and Aluminum Production and Processing.
| • Nonferrous Metal (except Aluminum) Production and Processing.
2. Machinery Manufacturing | • Engine, Turbine, and Power Transmission Equipment Manufacturing.
3. Electrical Equipment, Appliance, and Component Manufacturing | • Electrical Equipment Manufacturing.
4. Transportation Equipment Manufacturing | • Motor Vehicle Manufacturing.
| • Aerospace Product and Parts Manufacturing.
| • Railroad Rolling Stock Manufacturing.
| • Other Transportation Equipment Manufacturing.

IV. Incorporation of the Critical Manufacturing Sector Into the NIPP Framework

The NIPP framework includes a SCC within all of the sectors containing private sector CIKR owners and/or operators. The SCC includes CIKR owners and/or operators and private industry trade associations representative of CIKR owners and/or operators. By policy, SCCs are self-created and self-led entities, and DHS encourages public engagement in the development of the Critical Manufacturing SCC. Each of the sectors also has a GCC whose membership includes a lead Federal agency that is defined as the SSA, and all of the relevant Federal, State, local, Tribal, and Territorial government agencies (or their representative trade associations) whose mission interests also involve the scope of the NIPP activities for that particular sector. As directed and authorized by section 4.1.1 of the NIPP (National-Level Coordination), the Assistant Secretary, Office of Infrastructure Protection will assume interim leadership in supporting the development of an SCC and coordinating the development of a GCC, and identify an SSA to meet the requirements of HSPD-7 and the NIPP.

At the conclusion of the above process, the Secretary will identify the GCC government agency membership and designate a Federal agency as the SSA. The SSA, SCC, and GCC will thereafter comprise the Critical Manufacturing Sector and continue to organize and coordinate in order to accommodate the intent of the NIPP and full integration into the CIKR Sector Partnership.

As the NIPP is the primary mechanism for coordinating the coverage of CIKR sectors and their constituent systems and assets, DHS will revise its contents to include the Critical Manufacturing CIKR sector. As part of a comprehensive national review, DHS seeks comments on changes to the NIPP to reflect the addition of the Critical Manufacturing sector. These changes will include adding the Critical Manufacturing sector and its SSA to those sections of the NIPP where sectors and their SSAs are listed, referenced, or described. DHS will also amend the last sentence of the definition of “Sector” in the Glossary to read, “The NIPP addresses the 17 CIKR sectors enumerated in HSPD-7 and any additional sectors created by the Secretary of Homeland Security pursuant to HSPD-7.”

For purposes of review, the NIPP can be found at http://www.dhs.gov/nipp.

Robert B. Stephan,
Assistant Secretary, Office of Infrastructure Protection, Department of Homeland Security.

[FR Doc. E8-9412 Filed 4-29-08; 8:45 am]

BILLING CODE 4410-10-P